DEPARTMENT OF EDUCATION

[CFDA No.: 84.019A, 84.021A, 84.022A]

Office of Postsecondary Education, Fulbright-Hays Faculty Research Abroad Fellowship Program, Fulbright-Hays Group Projects Abroad Program, and Fulbright-Hays Doctoral Dissertation Research Abroad Fellowship Program; Notice Inviting Applications for New Awards for Fiscal Year (FY) 2001

Purpose of Programs: (a) The Faculty Research Abroad Fellowship Program offers opportunities to faculty members of institutions of higher education for research and study in modern foreign languages and area studies.

(b) The Group Projects Abroad Program supports overseas projects in training, research, and curriculum development in modern foreign languages and area studies for groups of teachers, students, and faculty engaged in a common endeavor. Projects may include short-term seminars, curriculum development or group research or study. The program does not support advanced intensive language projects under this competition.

(c) The Doctoral Dissertation Research Abroad Fellowship Program provides opportunities for graduate students to engage in full-time dissertation research abroad in modern foreign languages and area studies.

Eligible Applicants: (a) Institutions of higher education are eligible to participate in the Faculty Research Abroad Fellowship Program and the Doctoral Dissertation Research Abroad Fellowship Program.

(b) Institutions of higher education, State departments of education, nonprofit private educational organizations, and consortia of these entities are eligible to participate in the Group Projects Abroad Program.

Deadline for Transmittal of Applications: The dates of availability of applications and the deadlines for the transmittal of applications under each of these competitions are indicated in the chart in this notice.

Available Funds: The estimated amount of funds available for new awards under these competitions, as shown in the chart, is based on the Administration's request for these programs for FY 2001. The actual level of funding, if any, is contingent on final congressional action.

CFDA number and name of program | Applications available | Deadline for transmittal of applications | Estimated range of awards | Estimated average size of awards | Estimated number of award | Project period
84.019A—Fulbright-Hays Faculty Research Abroad Fellowship Program | August 28, 2000 | October 27, 2000 | $20,000-$75,000 | $47,000 | 30 fellow ships | 3-12 months.
84.021A—Fulbright-Hays Group Projects Abroad Program | September 1, 2000 | October 23, 2000 | $30,000-$75,000 | $69,000 | 36 | 4-6 weeks for short-term seminars and curriculum development projects.
|  |  |  |  |  | 2-12 months for group research or study projects.
84.022A—Fulbright-Hays Doctoral Dissertation Research Abroad Fellowship Program | August 28, 2000 | October 27, 2000 | $10,000-$70,000 | $27,000 | 115 fellow ships | 6-12 months.

Note: The Department is not bound by any estimates in this notice.

Applicable Regulations: (a) The Education Department General Administrative Regulations (EDGAR) in 34 CFR parts 74, 75, 77, 80, 81, 82, 85, 86, 97, 98, and 99; and (b) the regulations for these programs as follows: 34 CFR Part 662 governing the Doctoral Dissertation Research Abroad Fellowship Program; 34 CFR Part 663 governing the Faculty Research Abroad Fellowship Program; and 34 CFR Part 664 governing the Group Projects Abroad Program.

Priorities

Fulbright-Hays Faculty Research Abroad Fellowship Program and Fulbright-Hays Doctoral Dissertation Research Abroad Fellowship Program

Absolute Priority: Under 34 CFR 105(c)(3) and 34 CFR 662.21(d) governing the Fulbright-Hays Doctoral Dissertation Research Abroad Fellowship Program and 34 CFR 105(c)(3) and 34 CFR 663.21(d) governing the Fulbright-Hays Faculty Research Abroad Fellowship Program, the Secretary gives an absolute preference to applications that meet the following priority. The Secretary funds only applications that meet this absolute priority:

A research project funded under this priority must focus on one or more of the following areas: Africa, East Asia, Southeast Asia and the Pacific, South Asia, the Near East, East Central Europe and Eurasia, and the Western Hemisphere (Canada, Central and South America, Mexico, and the Caribbean). Please note that applications that propose projects focused on Western Europe will not be funded.

Group Projects Abroad Program

Absolute Priority: Under 34 CFR 105(c)(3) and 34 CFR 664.34 governing the Fulbright-Hays Group Projects Abroad Program, the Secretary gives an absolute preference to applications that meet the following priority. The Secretary funds only applications that meet this absolute priority:

A group project funded under this priority must focus on one or more of the following areas: Africa, East Asia, South Asia, Southeast Asia and the Pacific, the Western Hemisphere (Central and South America, Mexico, and the Caribbean), East Central Europe and Eurasia, and the Near East. Please note that applications that propose projects focused on Canada or Western Europe will not be funded.

Competitive Priority: Within the absolute priority specified in this notice for the Group Projects Abroad Program, the Secretary gives preference to applications that meet the following competitive priority. Under 34 CFR 75.105(c)(2)(i) and 34 CFR 664.30(b), the Secretary awards up to five points to an application depending upon how well the application meets the priority. These points are in addition to any points the application earns under the selection criteria for the program.

Short-term seminars that develop and improve foreign language and area studies at elementary and secondary schools.

Invitational Priority: Within the absolute priority specified in this notice, the Secretary is particularly interested in applications that meet the following invitational priority. However under 34 CFR 75.105(c)(1) an application that meets this invitational priority does not receive competitive preference over other applications.

Group study projects that provide opportunities for nationally recruited undergraduate students to study in a foreign country for either a semester or a full academic year.

For Applications or Information Contact: Applications for all the programs are available at

www.ed.gov/offices/OPE/HEP/iegps/

Faculty Research Abroad Program: Eliza Washington, U.S. Department of Education, International Education and Graduate Programs Service, 1990 K Street, NW, 6th Floor, Washington, DC 20006-8521. Telephone: (202) 502-7633. The e-mail address for Ms. Washington is:

eliza_washington@ed.gov

Group Projects Abroad: Lungching Chiao, U.S. Department of Education, International Education and Graduate Programs Service, 1990 K Street, NW, 6th Floor, Washington, DC 20006-8521. Telephone: (202) 502-7624. The e-mail address for Ms. Chiao is:

lungching_chiao@ed.gov

Doctoral Dissertation Research Abroad Program: Karla Ver Bryck Block, U.S. Department of Education, International Education and Graduate Programs Service, 1990 K Street, NW, 6th Floor, Washington, DC 20006-8521. Telephone: (202) 502-7632. The e-mail address for Ms. Ver Bryck Block is:

karla_verbryckblock@ed.gov

Individuals who use a telecommunications device for the deaf (TDD) may call the Federal Information Relay Service (FIRS) at 1-800-877-8339.

Individuals with disabilities may obtain this document in an alternate format (e.g., Braille, large print, audiotape, or computer diskette) on request to the appropriate contact persons listed in the preceding paragraphs. However, the Department is not able to reproduce in an alternate format the standard forms included in the application package.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader which is available free at either of the previous sites. If you have any questions about using the PDF, call the U.S. Government Printing Office (GPO) toll free, at 1-888-293-6498; or in the Washington, D.C. area, at (202) 512-1530.

Note: The official version of a document is the document published in the Federal Register. Free Internet access to the official edition of the Federal Register and the Code of Federal Regulations is available on GPO Access at:http://www.access.gpo.gov/nara/index.html

Program Authority: 22 U.S.C. 2452(b)(6).

Dated: August 4, 2000.
A. Lee Fritschler,
Assistant Secretary, Office of Postsecondary Education.

[FR Doc. 00-20234 Filed 8-9-00; 8:45 am]

BILLING CODE 4000-01-P